DEPARTMENT OF COMMERCE

Bureau of Industry and Security

[Docket No. 03-BIS-07]

Action Affecting Export Privileges; Aura Ltd.

Order

The Bureau of Industry and Security, United States Department of Commerce (“BIS”) having initiated an administrative proceeding against Aura Ltd. (“Aura”) pursuant to section 766.3 of the Export Administration Regulations (currently codified at 15 CFR parts 730-774 (2004) (“Regulations”),¹ and section 13(c) of the Export Administration Act of 1979, as amended (50 U.S.C. app. sections 2401-2420 (2000)) (“Act”),² based on the amended charging letter issued to Aura that alleged that Aura committed five violations of the Regulations. Specifically, the charges are:

¹ The violations charged occurred between 1999 and 2000. The Regulations governing the violations at issue are found in the 1999 and 2000 versions of the Code of Federal Regulations (15 CFR parts 730-774 (1999-2000)). The 2004 Regulations establish the procedures that apply to this matter.

² From August 21, 1994 through November 12, 2000, the Act was in lapse. During that period, the President, through Executive Order 12924, which had been extended by successive Presidential Notices, the last of which was August 3, 2000 (3 CFR, 2000 Comp. 397 (2001)), continued the Regulations in effect under the International Emergency Economic Powers Act (50 U.S.C. 1701—1706 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 7, 2003 (3 CFR, 2003 Comp. 328 (2004)), has continued the Regulations in effect under the IEEPA.

1. Five Violations of 15 CFR 764.2(b)—Aiding and Abetting an Export in Violation of the Regulations: Between on or about June 2, 1999 and on or about March 22, 2000, Aura aided and abetted the export of bone densitometer equipment items subject to the Regulations and the Iran Transactions Regulations, from the United States to Iran without prior authorization from the Office of Foreign Assets Control, U.S. Department of the Treasury, as required in Section 746.7 of the Regulations. Aura aided and abetted the illegal exports by transshipping the items from the United Kingdom to Iran to complete their shipment from the United States.

BIS and Aura having entered into a Settlement Agreement pursuant to Section 766.18(b) of the Regulations whereby they agreed to settle this manner in accordance with the terms and conditions set forth therein, and the terms of the Settlement Agreement having been approved by me;

It is therefore ordered:

First, that for a period of two years from the date of entry of this Order, Aura Ltd., 39 Rushdon Rd., Milton Ernest, Bedford, Bedfordshire, MK44 1RU, United Kingdom, its successors or assigns, and when acting for or on behalf of Aura, its officers, representatives, agents, or employees (“Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the denied person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to Aura by affiliation, ownership, control, or position of responsibility in the conduct of trade or related services may also be made subject to the provisions of the Order.

Fourth, that this Order does not prohibit any export, reexport, or other transaction subject to the Regulations where the only items involved that are subject to the Regulations are the foreign-produced direct product of U.S.-origin technology.

Fifth, that a copy of this Order shall be delivered to the United States Coast Guard ALJ Docketing Center, 40 Gay Street, Baltimore, Maryland 21202-4022, notifying the office that this case is withdrawn from adjudication, as provided by Section 766.18 of the Regulations.

Sixth, that the charging letter, the Settlement Agreement, and this Order shall be made available to the public.

This Order, which constitutes the final agency action in this matter, is effective immediately.

Entered this 12th day of August 2004.
Julie L. Myers,
Assistant Secretary of Commerce for Export Enforcement.

[FR Doc. 04-18876 Filed 8-17-04; 8:45 am]

BILLING CODE 3510-DT-M